ENVIRONMENTAL PROTECTION AGENCY

[ER-FRL-8585-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080218, ERP No. D-AFS-J65517-SD, West Rim Project, Proposes To Implement Multiple Resource Management Actions, Northern Hills Ranger District, Black Hills National Forest, Lawrence County, SD.

Summary: EPA expressed environmental concerns about impacts to water quality, aquatic resources, and wildlife habitats. Rating EC2.

EIS No. 20080220, ERP No. D-FHW-K40268-CA, Jepson Parkway Project, Proposes To Upgrade and Link a Series of Existing Two and Four-Lane Roadways, Right-of-Way, Endangered Species Act Section 7 and U.S. Army COE Section 404 Permits, Solano County, CA.

Summary: EPA expressed environmental concerns about impacts to wetlands, air quality, and wildlife habitat. EPA is also concerned about indirect impacts from induced growth. Rating EC2.

EIS No. 20080225, ERP No. D-AFS-J65518-SD, South Project Area, Proposes Multiple Resource Management Actions, Hell Canyon Ranger District, Black Hills National Forest, Custer County, SD.

Summary: EPA expressed environmental concerns about the potential environmental impacts to water quality and habitat from Mountain Pine Bark (MPB) beetle epidemics. The final EIS should consider land-use activities that enhance forest heterogeneity and thus potentially reduce susceptibility to bark beetle outbreaks and the associated impacts to water quality and habitat. Rating EC2.

EIS No. 20080237, ERP No. D-NPS-J65519-SD, Wind Cave National Park Project, Elk General Management Plan, Implementation, Custer County, SD.

Summary: EPA has no environmental objections to the preferred Alternative (B). Rating LO.

EIS No. 20080243, ERP No. DP-USN-E11066-00, Jacksonville Range Complex Project, To Support and Conduct Current and Emerging Training and RDT&E Operations, NC, SC, GA and FL.

Summary: EPA expressed environmental concerns about the effect of the Navy's training activities primarily associated with the deposition of expended training materials and their accumulation over time. EPA requested additional monitoring commitments to address these concerns. Rating EC2.

EIS No. 20080251, ERP No. D-AFS-K65342-CA, Moonlight and Wheeler Fires Recovery and Restoration Project, Proposes To Harvest Fire-Killed Merchantable Trees on 15,568 Acres, Mt. Hough Ranger District, Plumas National Forest, Plumas County, CA.

Summary: EPA expressed environmental objections about impacts to water quality and the watershed. EPA requested that the Final EIS should consider an alternative that minimizes adverse impacts to the damaged watershed, and prioritizes the removal of highly valued timber first. Rating EO2.

EIS No. 20080252, ERP No. D-DHS-A10077-00, National Bio and Agro-Defense Facility, Propose To Site, Construct and Operate at one of the Proposed Locations: (1) South Milledge Avenue Site, Clarke County, GA; (2) Manhattan Campus Site, Riley County, KS; (3) Flora Industrial Park Site, Madison County, MS; (4) Plum Island Site, Suffolk County, NY; (5) Umstead Research Park Site, Granville County, NC; and (6) Texas Research Park Site, Bexar and Medina Counties, TX.

Summary: EPA does not object to the proposed project. Rating LO.

EIS No. 20080256, ERP No. D-NOA-E91024-00, Amendment 29 Reef Fish Fishery Management Plan, Effort Management in the Commercial Grouper and Tilefish Fisheries, Reducing Overcapacity, Gulf of Mexico.

Summary: While EPA has no objections with the proposed action, EPA requested clarification on environmental justice issues. Rating LO.

EIS No. 20080257, ERP No. D-FAA-G52000-NM, Spaceport America Commercial Launch Site, Proposal To Develop and Operate, Issuance of License, Sierra County, NM.

Summary: EPA does not object to the preferred action. Rating LO.

EIS No. 20080217, ERP No. DA-COE-K32046-CA, Pacific Los Angeles Marine Terminal Crude Oil Marine Terminal, Construction and Operation of a New Marine Terminal from Pier 400, Berth 408 Project, U.S. Army COE section 10 and 404 Permits, Port of Los Angeles, Los Angeles County, CA.

Summary: EPA expressed concerns about impacts to air quality, environmental justice communities, and aquatic/biological resources. Rating EC2.

EIS No. 20080172, ERP No. DS-COE-K60037-CA, Rio del Oro Specific Plan Project, New Information on Biological Resource and Water Supply, City of Rancho Cordova, Sacramento County, CA.

Summary: EPA expressed environmental concerns about impacts to wetlands, waters of the U.S., and habitat resources. EPA recommends efforts to maximize water conservation and integrate water use efficiencies through “green infrastructure” into the design of the development. Rating EC2.

Final EISs

EIS No. 20080265, ERP No. F1-DOE-A06181-00, Rail Alignment for the Construction and Operation of a Railroad in Nevada to a Geologic Repository (DOE/EIS-0369) at Yucca Mountain, Nye County, NV.

Summary: While EPA's previous concerns were resolved, EPA requested clarification on compensatory wetland mitigation options. EPA also recommended the development/implementation of a monitoring and management plan consistent with the requirements of the Wetlands Compensatory Mitigation Rule and Army COE guidelines.

EIS No. 20080255, ERP No. F-AFS-J65395-UT, Indian Springs Road Realignment, Reducing Adverse Impacts to Watershed and Fisheries, U.S. Army COE Section 404 Permit, Uinta-Wasatch-Cache National Forest, Wasatch County, UT.

Summary: The Final EIS addressed EPA's previous environmental concerns with mitigation measures and road closures including, education, signage and restoration of non-authorized roadways in the Inventoried Roadless Areas.

EIS No. 20080270, ERP No. F-NSF-A12045-00, PROGRAMMATIC—Integrated Ocean Drilling Program—United States Implementing Organizations Participation in the Development of Scientific Ocean Drilling, IODP-USIO.

Summary: EPA has no objection to the proposed action.

EIS No. 20080273, ERP No. F-FRC-E03018-FL, Floridian Natural Gas Storage Project, Construction and Operation, Liquefied Natural Gas (LNG) Storage and Natural Gas Transmission Facilities, Martin County, FL.

Summary: EPA continues to have concerns about environmental justice issues.

EIS No. 20080285, ERP No. F-NPS-J65474-MT, Avalanche Hazard Reduction Project, Issuance of Special Use Permit for the Use of Explosives in the Park, Burlington Northern Santa Fe Railway, Glacier National Park, Flathead National Forest, Flathead and Glacier Counties, MT.

Summary: EPA does not object to the preferred alternative.

EIS No. 20080299, ERP No. F-IBR-K91014-CA, American Basin Fish Screen and Habitat Improvement Project, Construction and Operation of one or two Positive-Barrier Fish Screen Diversion Facilities, Funding and U.S. Army COE Section 10 and 404 Permits, Natomas Mutual, Sacramento and Sutter Counties, CA.

Summary: No formal comment letter was sent to the preparing agency.

EIS No. 20080264, ERP No. FA-DOE-A06181-00, Geologic Repository for the Disposal of Spent Nuclear Fuel and High-Level Radioactive Waste at Yucca Mountain, Nye County, Nevada—Nevada Rail Transportation Corridor (DOE/EIS-0250F-S2).

Summary: EPA does not object to the proposed project.

EIS No. 20080266, ERP No. FS-DOE-A06181-00, Geologic Repository for the Disposal of Spent Nuclear Fuel and High-Level Radioactive Waste, Construction, Operation, Monitoring and Eventually Closing a Geologic Repository (DOE/EIS-0250F-S1D) at Yucca Mountain, Nye County, NV.

Summary: The final SEIS has addressed EPA's concerns about the language regarding EPA's radiation protection standards and the explanation of DOE's determination of the appropriate strain rates to be incorporated into the conceptual seismic model; therefore, EPA does not object to the proposed project.

EIS No. 20080284, ERP No. FS-USA-A15000-00, PROGRAMMATIC—Army Growth and Force Structure Realignment, Evaluation of Alternatives for Supporting the Growth, Realignment, and Transformation of the Army To Support Operational in the Pacific Theater, Implementation, Continental United States and Pacific Region of Alaska and Hawaii.

Summary: EPA does not object to the proposed project.

Dated: August 26, 2008.
Ken Mittelholtz,
Director, NEPA Compliance Division, Office of Federal Activities.

[FR Doc. E8-20123 Filed 8-28-08; 8:45 am]

BILLING CODE 6560-50-P